DEPARTMENT OF COMMERCE

International Trade Administration

[C-122-848]

Hard Red Spring Wheat from Canada: Rescission of Countervailing Duty Administrative Review

AGENCY: Import Administration, International Trade Administration, Department of Commerce.

SUMMARY: The Department of Commerce initiated an administrative review of the countervailing duty order on hard red spring wheat from Canada, covering the period January 1, 2004, through December 31, 2004. See Initiation of Antidumping and Countervailing Duty Administrative Reviews and Request for Revocation in Part, 71 FR 68535 (November 27, 2006). As a result of a timely withdrawal of the request for review by the Canadian Wheat Board, we are rescinding this review.

EFFECTIVE DATE: March 13, 2007.

FOR FURTHER INFORMATION CONTACT: Audrey Twyman or Brandon Farlander, AD/CVD Operations, Office 1, Import Administration, International Trade Administration, U.S. Department of Commerce, 14th Street and Constitution Avenue, NW, Washington, DC 20230; telephone (202) 482-3534 and (202) 482-0182, respectively.

SUPPLEMENTARY INFORMATION:

Background

On October 23, 2003, the Department of Commerce (“the Department”) published a countervailing duty order on hard red spring wheat (“HRSW”) from Canada. See Notice of Countervailing Duty Order: Hard Red Spring Wheat from Canada, 68 FR 60642 (October 23, 2003). On October 31, 2005, the Canadian Wheat Board (“CWB”) requested an administrative review of the countervailing duty order on HRSW from Canada covering the period January 1, 2004, through December 31, 2004. At the same time, the CWB requested that the review be deferred for one year. See Initiation of Antidumping and Countervailing Duty Administrative Reviews and Deferral of Administrative Reviews, 70 FR 72107 (December 1, 2005). On November 27, 2006, we automatically initiated the deferred 2004 review. See Initiation of Antidumping and Countervailing Duty Administrative Reviews and Request for Revocation in Part, 71 FR 68535 (November 27, 2006). On February 26, 2007, the CWB withdrew its request for review.

Scope of the Countervailing Duty Order

Imports covered by this order are all varieties of HRSW from Canada. This includes, but is not limited to, varieties commonly referred to as Canada Western Red Spring, Canada Western Extra Strong, and Canada Prairie Spring Red. The merchandise subject to this order is currently classifiable under the following Harmonized Tariff Schedule of the United States (“HTSUS”) subheadings: 1001.90.10.00, 1001.90.20.05, 1001.90.20.11, 1001.90.20.12, 1001.90.20.13, 1001.90.20.14, 1001.90.20.16, 1001.90.20.19, 1001.90.20.21, 1001.90.20.22, 1001.90.20.23, 1001.90.20.24, 1001.90.20.26, 1001.90.20.29, 1001.90.20.35, and 1001.90.20.96. This order does not cover imports of wheat that enter under the subheadings 1001.90.10.00 and 1001.90.20.96 that are not classifiable as HRSW. Although the HTSUS subheadings are provided for convenience and customs purposes, our written description of the scope of this order is dispositive.

Rescission of Review

The Department's regulations at 19 CFR 351.213(d)(1) provide that the Department will rescind an administrative review if a party that requested a review withdraws the request within 90 days of the date of publication of the notice of initiation of the requested review. The CWB withdrew its request for an administrative review on February 26, 2007, which is within the 90-day deadline. No other party requested a review of this order. Therefore, the Department is rescinding this administrative review.

The Court of International Trade issued a temporary restraining order, covering 10 days, effective March 1, 2007, instructing the Department not to liquidate CWB imports of the subject merchandise. As long as a temporary restraining order, or preliminary injunction, is in place pursuant to the ongoing litigation, the Department will not order liquidation of the relevant entries.

This notice also serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

This notice is issued and published in accordance with section 777(i)(1) of the Tariff Act of 1930, as amended, and 19 CFR 351.213(d)(4).

Dated: March 6, 2007.
Stephen J. Claeys,
Deputy Assistant Secretary for Import Administration.

[FR Doc. E7-4499 Filed 3-12-07; 8:45 am]

BILLING CODE 3510-DS-S